CONSUMER PRODUCT SAFETY COMMISSION

16 CFR Part 1264

[Docket No. CPSC-2011-0074]

Safety Standard Addressing Blade-Contact Injuries on Table Saws; Notice of Opportunity for Oral Presentations

AGENCY: Consumer Product Safety Commission.

ACTION: Supplemental notice of proposed rulemaking; opportunity for oral presentations.

SUMMARY: The Consumer Product Safety Commission (Commission or CPSC) will be providing an opportunity for interested parties to make oral presentations on the supplemental notice of proposed rulemaking (SNPR) the Commission issued regarding a safety standard addressing blade-contact injuries on table saws. Presentations will be part of the rulemaking record.

DATES: A hybrid hearing will be held in person at CPSC's headquarters and remotely via webinar and will begin at 10 a.m. Eastern Standard Time (EST) on February 28, 2024.

ADDRESSES: This hearing will be held as a hybrid hearing—in person at CPSC's headquarters and remotely via webinar. For individuals attending in person, the meeting will be held at CPSC's headquarters, located at 4330 East West Highway, 4th Floor—Hearing Room, Bethesda, MD 20814. Individuals who plan to attend the meeting remotely should pre-register for the webinar at https://cpsc.webex.com/cpsc/j.php?MTID=mdfe71b8646e635c40558465d1e662089. Attendance is free of charge. After registering, you will receive a confirmation email containing information about joining the webinar. In person attendees do not need to register for the hearing. Requests to make oral presentations (in person or remotely) and the text of oral presentations and written comments should be sent by email to: cpsc-os@cpsc.gov, with the subject line, “Table Saws SNPR; Oral Presentation.” Requests to make oral presentations—in person or remotely—and the written text of any oral presentations must be received by the Office of the Secretary not later than 5 p.m. EST on February 21, 2024. The Commission will accept written comments as well. These also must be received by the Office of the Secretary not later than 5 p.m. EST on February 21, 2024.

FOR FURTHER INFORMATION CONTACT: For information about the subject matter of this hearing, contact Caroleene Paul, Director, Mechanical Engineering Division, Consumer Product Safety Commission, 5 Research Place, Rockville, MD 20850; email: cpaul@cpsc.gov. For information about the procedure to make an oral presentation, contact Alberta E. Mills, Office of the Secretary, Consumer Product Safety Commission, 4330 East-West Highway, Bethesda, MD 20814; cpsc-os@cpsc.gov.

SUPPLEMENTARY INFORMATION:

I. Background ¹

¹ The Commission voted unanimously to publish this notice.

On November 1, 2023, the Commission published an SNPR in the Federal Register, proposing to issue a safety standard addressing blade-contact injuries on table saws under the Consumer Product Safety Act (CPSA; 15 U.S.C. 2051-2089), and seeking written comments. 88 FR 74909. To address the risk of blade-contact injuries on table saws, the Commission proposes a rule that would establish a performance standard that requires table saws to limit the depth of cut to no more than 3.5 millimeters when a test probe, acting as surrogate for a human finger or other body part, approaches the spinning blade at a rate of 1 meter per second (m/s). The SNPR is available at: 88 FR 74909—Safety Standard Addressing Blade-Contact Injuries on Table Saws—Content Details—2023-23898 (govinfo.gov), and CPSC staff's briefing package for the SNPR is available at: https://www.cpsc.gov/s3fs-public/Federal-Register-Notice-Safety-Standard-Addressing-Blade-Contact-Injuries-on-Table-Saws-SNPR.pdf?VersionId=Ce3FOVBmbG0_.8j.gd1h0k3VWHZZ.URw.

II. The Public Hearing

The Administrative Procedure Act (5 U.S.C. 551-562) and section 9 of the CPSA require the Commission to provide interested parties with an opportunity to submit “written data, views, or arguments” regarding a proposed rule. 5 U.S.C. 553(c); 15 U.S.C. 2058(d)(2). The SNPR invited such written comments. In addition, section 9 of the CPSA requires the Commission to provide interested parties “an opportunity for oral presentation of data, views, or arguments.” 15 U.S.C. 2058(d)(2). The Commission must keep a transcript of such oral presentations. Id. In accordance with this requirement, the Commission is providing a forum for oral presentations concerning the proposed standard.

To request the opportunity to make an oral presentation, see the information under the DATES and ADDRESSES sections of this notice. Participants should limit their presentations to approximately 10 minutes, excluding time for questioning by the Commissioners or CPSC staff. To avoid duplicate presentations, groups should designate a spokesperson, and the Commission reserves the right to limit presentation times or impose further restrictions, as necessary.

Alberta E. Mills,
Secretary, Consumer Product Safety Commission.

[FR Doc. 2024-02570 Filed 2-7-24; 8:45 am]

BILLING CODE 6355-01-P